DEPARTMENT OF COMMERCE

International Trade Administration

[A-557-813]

Polyethylene Retail Carrier Bags From Malaysia: Final Results of the Antidumping Duty Administrative Review; 2014-2015

AGENCY: Enforcement and Compliance, International Trade Administration, Department of Commerce.

SUMMARY: On June 24, 2016, the Department of Commerce (the Department) published the preliminary results of the administrative review of the antidumping duty order on polyethylene retail carrier bags (PRCBs) from Malaysia. The review covers one producer/exporter of the subject merchandise, Euro SME Sdn Bhd (Euro SME) for the period of review (POR) August 1, 2014, through July 31, 2015. The final estimated weighted-average dumping margin is listed below in the “Final Results of Review” section of this notice.

DATES: Effective October 31, 2016.

FOR FURTHER INFORMATION CONTACT: Bryan Hansen or Minoo Hatten, AD/CVD Operations, Office I, Enforcement and Compliance, International Trade Administration, U.S. Department of Commerce, 1401 Constitution Avenue NW., Washington, DC 20230; telephone: (202) 482-3683 or (202) 482-1690, respectively.

SUPPLEMENTARY INFORMATION:

Background

On June 24, 2016, the Department published the Preliminary Results in the Federal Register, and invited parties to comment.¹ For events subsequent to the Preliminary Results, see the Department's Final Decision Memorandum.² The Department conducted this review in accordance with section 751 of the Tariff Act of 1930, as amended (the Act).

¹ See Polyethylene Retail Carrier Bags From Malaysia: Preliminary Results of Antidumping Duty Administrative Review; 2014-2015, 81 FR 41294 (June 24, 2016) (Preliminary Results).

² See Memorandum from Christian Marsh, Deputy Assistant Secretary for Antidumping and Countervailing Duty Operations, to Ronald K. Lorentzen, Acting Assistant Secretary for Enforcement and Compliance, “Issues and Decision Memorandum for Final Results of Antidumping Duty Administrative Review: Polyethylene Retail Carrier Bags from Malaysia,” dated concurrently with, and hereby adopted by this notice (Final Decision Memorandum).

Scope of the Order

The merchandise subject to the order is PRCBs. The product is currently classified under the Harmonized Tariff Schedules of the United States (HTSUS) subheading 3923.21.0085. While the HTSUS subheading is provided for convenience and customs purposes, the written description is dispositive. A full description of the scope of the order is contained in the Final Decision Memorandum.³

³ Id.

Analysis of Comments Received

All issues raised in the case and rebuttal briefs by parties to this review are addressed in the Final Decision Memorandum, which is hereby adopted by this notice. A list of the issues raised is attached to this notice as Appendix. The Final Decision Memorandum is a public document and is on file electronically via Enforcement and Compliance's Antidumping and Countervailing Duty Centralized Electronic Service System (ACCESS). ACCESS is available to registered users at https://access.trade.gov, and to all parties in the Central Records Unit (CRU), Room B8024 of the main Department of Commerce building. In addition, a complete version of the Final Decision Memorandum can be accessed directly on the Internet at http://enforcement.trade.gov/frn/index.html.

Changes Since the Preliminary Results

Based on our analysis of comments received, we made one revision that changed the results for Euro SME.⁴

⁴ We corrected a programming error in the margin calculation we included in the Preliminary Results. A detailed discussion of the correction we made is in the final analysis memorandum for Euro SME, dated concurrently with this notice, which is available in ACCESS, to registered users at https://access.trade.gov, or available in the CRU.

Final Results of the Review

As a result of this administrative review, we determine that a weighted-average dumping margin of 0.00 percent exists for Euro SME for this POR.

Disclosure

We intend to disclose the calculations performed to parties in this proceeding within five days after public announcement of the final results, in accordance with 19 CFR 351.224(b).

Assessment Rates

In accordance with 19 CFR 351.212 and the Final Modification,⁵ the Department will instruct U.S. Customs and Border Protection (CBP) to liquidate all appropriate entries for Euro SME without regard to antidumping duties. For entries of subject merchandise during the POR produced by Euro SME for which it did not know its merchandise was destined for the United States, we will instruct CBP to liquidate un-reviewed entries at the all-others rate if there is no rate for the intermediate company(ies) involved in the transaction. We intend to issue instructions to CBP 15 days after publication of the final results of this review.

⁵ See Antidumping Proceedings: Calculation of the Weighted-Average Dumping Margin and Assessment Rate in Certain Antidumping Duty Proceedings; Final Modification, 77 FR 8101, 8102 (February 14, 2012) (Final Modification).

Cash Deposit Requirements

The following deposit requirements will be effective upon publication of the notice of final results of administrative review for all shipments of PRCBs from Malaysia entered, or withdrawn from warehouse, for consumption on or after the date of publication as provided by section 751(a)(2) of the Act: (1) The cash deposit rate for Euro SME will be 0.00 percent, the rate established in the final results of this administrative review; (2) for merchandise exported by manufacturers or exporters not covered in this review but covered in a prior segment of the proceeding, the cash deposit rate will continue to be the company-specific rate published for the most recently completed segment of this proceeding in which that manufacturer or exporter participated; (3) if the exporter is not a firm covered in this review, a prior review, or the original investigation but the manufacturer is, the cash deposit rate will be the rate established for the manufacturer of the merchandise for the most recently completed segment of this proceeding for the manufacturer of the merchandise; (4) the cash deposit rate for all other manufacturers or exporters will continue to be 84.94 percent.⁶ These cash deposit requirements, when imposed, shall remain in effect until further notice.

⁶ This all-others rate was established in the Notice of Final Determination of Sales at Less Than Fair Value: Polyethylene Retail Carrier Bags From Malaysia, 69 FR 34128 (June 18, 2004).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

The Department is issuing and publishing these final results of administrative review in accordance with sections 751(a)(1) and 777(i)(1) of the Act, and 19 CFR 351.213(h).

Dated: October 24, 2016.
Ronald K. Lorentzen,
Acting Assistant Secretary for Enforcement and Compliance.

Appendix

List of Topics Discussed in the Final Decision Memorandum:

I. Summary

II. Background

III. Scope of the Order

IV. Margin Calculation

V. Discussion of the Issues

Issue 1: Whether the U.S. Sale is Bona Fide

Issue 2: Home Market Window Period

VI. Recommendation

[FR Doc. 2016-26220 Filed 10-28-16; 8:45 am]

BILLING CODE 3510-DS-P